DEPARTMENT OF THE INTERIOR

National Park Service

Notice of Proposed National Natural Landmark Designation for the Irvine Ranch Land Reserve, California

AGENCY: National Park Service, Interior.

ACTION: Notice; correction.

SUMMARY: The National Park Service published a document in the Federal Register of March 31, 2006, concerning the proposed National Natural Landmark Designation for the Irvine Ranch Land Reserve, CA which will be considered for recommendation at the June National Park System Advisory Board Meeting. The document contained an incorrect date and location.

FOR FURTHER INFORMATION CONTACT: Steve Gibbons at 360-856-5700, extension 306.

Correction

In the Federal Register of March 31, 2006, in FR Doc. 06-3161, on page 16341, in the second column, correct the “SUMMARY” caption to read:

SUMMARY: The National Park Service has evaluated and determined that the Irvine Ranch Land Reserve, located forty-five miles south of downtown Los Angeles, in Orange County, California appears to meet the criteria for national significance and proposes to recommend the site for designation as a National Natural Landmark. The public is invited to comment on this recommendation. The proposal will be considered by the National Park System Advisory Board at a meeting to be held on June 9, 2006 at Zion Lodge (Auditorium), Zion National Park, Springdale, Utah 84767.

Dated: April 26, 2006.
Steve Martin,
Deputy Director, National Park Service.

[FR Doc. E6-7722 Filed 5-19-06; 8:45 am]

BILLING CODE 4310-70-P